DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before January 12, 2012.

ADDRESSES: Address comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://www.regulations.gov.

This notice of receipt of applications for special permit is published in accordance with Part 107 of the Federal hazardous materials transportation law (49 U.S.C. 5117(b); 49 CFR 1.53(b)).

Issued in Washington, DC, on December 2, 2011.
Donald Burger,
Chief, General Approvals and Permits.

Application No. | Docket No. | Applicant | Regulation(s) affected | Nature of special permits thereof
New Special Permits
15497-N |  | U.S. Department of Energy Washington, DC | 49 CFR 173.417(a)(l)(i) | To authorize the transportation in commerce of radioactive materials without being subject to the requirements in 49 CFR 173.417(a)(1)(i)(mode 1).
15503-N |  | Garden City Co-op, Inc. Garden City, KS | 49 CFR 173.315(m)(l)(iv) | To authorize the transportation in commerce of certain cargo tanks used as an implementation of husbandry with a capacity of 5,000 gallons containing anhydrous ammonia. (mode 1).
15504-N |  | FIBA Technologies, Inc. Millbury, MA | 49 CFR 173.302a | To authorize the manufacture, marking, sale and use of non-DOT specification cylinders for the transportation in commerce of certain compressed gases. (modes 1, 2, 3, 4).
15507-N |  | Yiwu Jinyu Machinery Factory Jiangwan Town, Yiwu City | 49 CFR 173.304(d) | To authorize the manufacture, marking, sale and Yiwu City use of a non-refillable, non-DOT specification inside metal container similar to a DOT 2Q for the transportation in commerce of certain Division 2.1 and 2.2 gases. (modes 1, 2, 3, 4).
15509-N |  | The Virginia Commercial Space Flight Authority Norfolk, VA | 49 CFR 173.301 and 173.302a | To authorize the transportation in commerce of Helium in a non-DOT specification packaging for a short distance by motor vehicle. (mode 1).
15514-N |  | Shesam DBA Wilson Supply Cumberland, MD | 49 CFR 173.301(f) | To authorize the transportation in commerce of certain cylinders without pressure relief devices. (modes 1, 2, 3).
15515-N |  | National Aeronautics and Space Administration (NASA) Houston, TX | 49 CFR 173.302a, 173.301(f)(l), 173.301(h)(3), 173.302(f)(2) and 173.302(f)(4) | To authorize the transportation in commerce of a non-DOT specification cylinder further packed in an ATA-300 Category 1 outer packaging. (modes 1, 2, 3, 4).
15516-N |  | Moog Inc. East Auroroa, NY | 49 CFR Part 172, Subpart C | To authorize the transportation in commerce of certain waste hazardous materials between Moog plants without shipping paper documentation for less than one half mile by private motor vehicle. (mode 1).
15517-N |  | Mountain West Helicopters, LLC Alpine, UT | 49 CFR 172.101 Column (9B), 172.204(c)(3), 173.27(b)(2), 175.30(a)(1), 172.200, and 172.300 and 172.400 | To authorize the transportation in commerce of certain hazardous materials by external load in remote areas of the U.S. without being subject to hazard communication requirements and quantity limitations where no other means of transportation is available. (mode 4).

[FR Doc. 2011-31697 Filed 12-12-11; 8:45 am]

BILLING CODE 4909-60-M